DEPARTMENT OF HOMELAND SECURITY

Federal Emergency Management Agency

44 CFR Part 67

[Docket ID FEMA-2010-0003; Internal Agency Docket No. FEMA-B-1127]

Proposed Flood Elevation Determinations

AGENCY: Federal Emergency Management Agency, DHS.

ACTION: Proposed rule; correction.

SUMMARY: On September 13, 2010, FEMA published in the Federal Register a proposed rule that contained an erroneous table. This notice provides corrections to that table, to be used in lieu of the information published at 75 FR 55515. The table provided here represents the flooding sources, location of referenced elevations, effective and modified elevations, and communities affected for Venango County, Pennsylvania. Specifically, it addresses the flooding sources Allegheny River, East Sandy Creek, and Sugar Creek.

DATES: Comments are to be submitted on or before November 20, 2012.

ADDRESSES: You may submit comments, identified by Docket No. FEMA-B-1127, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 55515, in the September 13, 2010, issue of the Federal Register, FEMA published a table under the authority of 44 CFR 67.4. The table, entitled “Venango County, Pennsylvania (All Jurisdictions)” addressed the flooding sources Allegheny River, East Sandy Creek, and Sugar Creek. That table contained inaccurate information as to the location of referenced elevation, effective and modified elevation in feet, and/or communities affected for the flooding source Allegheny River. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Venango County, Pennsylvania (All Jurisdictions)
Allegheny River | Approximately 860 feet upstream of I-80 | None | +880 | Borough of Emlenton, Township of Clinton, Township of Richland, Township of Rockland, Township of Scrubgrass, Township of Victory.
| At the confluence of Sandy Creek | None | +949
East Sandy Creek | Approximately 460 feet upstream of the confluence with the Allegheny River | None | +961 | Township of Rockland.
| Approximately 1,000 feet upstream of the confluence with the Allegheny River | None | +961
Sugar Creek | Approximately 0.79 mile downstream of Bradleytown Road | None | +1201 | Township of Plum.
| Approximately 0.78 mile downstream of Bradleytown Road | None | +1201
* National Geodetic Vertical Datum. + North American Vertical Datum. # Depth in feet above ground. ‸ Mean Sea Level, rounded to the nearest 0.1 meter. ** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Emlenton
Maps are available for inspection at the Borough Building, 511 Hill Street, Emlenton, PA 16373.
Township of Clinton
Maps are available for inspection at the Clinton Township Building, 123 Donaldson Road, Kennerdell, PA 16374.
Township of Plum
Maps are available for inspection at the Plum Township Building, 2360 Sunville Road, Cooperstown, PA 16317.
Township of Richland
Maps are available for inspection at the Richland Township Building, 1740 Rockland Nickleville Road, Emlenton, PA 16373.
Township of Rockland
Maps are available for inspection at the Rockland Township Building, 1115 Rockland Township Road, Kennerdell, PA 16374.
Township of Scrubgras
Maps are available for inspection at the Scrubgrass Township Office, 4976 Emlenton-Clintonville Road, Emlenton, PA 16373.
Township of Victory
Maps are available for inspection at the Victory Township Municipal Building, 2794 Old Route 8, Polk, PA 16342.

(Catalog of Federal Domestic Assistance No. 97.022, “Flood Insurance.”)

Dated: August 8, 2012.
Sandra K. Knight,
Deputy Associate Administrator for Mitigation, Department of Homeland Security, Federal Emergency Management Agency.

[FR Doc. 2012-20644 Filed 8-21-12; 8:45 am]

BILLING CODE 9110-12-P